INTERNATIONAL TRADE COMMISSION

Agency Form Submitted for OMB Review

AGENCY: United States International Trade Commission.

ACTION: In accordance with the provisions of the Paperwork Reduction Act of 1995 (44 U.S.C. Chapter 35), the Commission has submitted a request for emergency processing for review and clearance of questionnaires to the Office of Management and Budget (OMB).

EFFECTIVE DATE: July 5, 2007.

Purpose of Information Collection: The form is for use by the Commission in connection with investigation No. TR-5003-1, Textiles and Apparel: Effect of Special Rules on Trade Markets and Industries, instituted under section 5003 of Tax Relief and Health Care Act of 2006 (TRHCA) (Public Law No. 109-432). The Commission must submit its report to Congress by June 20, 2008.

Summary of Proposal

(1) Number of forms submitted: One (1).

(2) Title of form: Questionnaire for Producers of Apparel in Haiti.

(3) Type of request: New.

(4) Frequency of use: Single data gathering, scheduled for Aug-Sept 2007.

(5) Description of respondents: Firms in Haiti that produce apparel.

(6) Estimated number of respondents: Est. 20 (Apparel assembly operators in Haiti).

(7) Estimated total number of hours for all respondents combined to complete the forms: 300 hours.

(8) Information obtained from the form that qualifies as confidential business information will be so treated by the Commission and not disclosed in a manner that would reveal the individual operations of a firm.

Additional Information or Comment: Copies of the forms and supporting documents may be obtained from the Commission's Web site at: http://www.usitc.gov/ind_econ_ana/research_ana/Ongoing_Inv.htm, or William Deese, Co-Project Leader (202-205-2626, william.deese@usitc.gov), or Russell Duncan, Co-Project Leader (202-708-4727; russell.duncan@usitc.gov). Comments about the proposals should be directed to the Office of Management and Budget, Office of Information and Regulatory Affairs, Room 10102 (Docket Library), Washington, DC 20503, ATTENTION: Docket Librarian. All comments should be specific, indicating which part of the questionnaire is objectionable, describing the concern in detail, and including specific suggested revisions or language changes. Copies of any comments should be provided to Robert Rogowsky, Director, Office of Operations, U.S. International Trade Commission, 500 E Street, SW., Washington, DC 20436, who is the Commission's designated Senior Official under the Paperwork Reduction Act.

Persons with mobility impairments who will need special assistance in gaining access to the Commission should contact the Secretary at 202-205-2000. Hearing impaired individuals are advised that information on this matter can be obtained by contacting our TTD terminal (telephone no. 202-205-1810). General information concerning the Commission may also be obtained by accessing its Internet server (http://www.usitc.gov).

By order of the Commission.
Issued: June 28, 2007.
Marilyn R. Abbott,
Secretary to the Commission.

[FR Doc. E7-12988 Filed 7-3-07; 8:45 am]

BILLING CODE 7020-02-P